DEPARTMENT OF HEALTH AND HUMAN SERVICES

Administration for Children and Families

Proposed Information Collection Activity; Comment Request

Proposed Projects

Title: Social Services Block Grant Post-Expenditure Report.

OMB No.: New.

Description:

Purpose: In order to improve the quality of data on the utilization of SSBG funds a revised reporting form needs to be developed with instructions that will eliminate confusion and reporting inconsistencies that have resulted from the current form. As a block grant, SSBG provides the States with a flexible source of funds for social service needs. Accurate accounting of how these funds are used and whom they serve is critical to ensure that necessary and sufficient funding continues to be allocated. For this reason, the following changes are being proposed to the current form:

1. The codes that indicated whether expenditures were actual or estimates are omitted on the revised form. These codes have not been filled in consistently and have been of little analytical value.

2. The codes that indicated whether recipients were duplicated or unduplicated are omitted on the revised form. These codes have not been filled in consistently and have been of little analytical value.

3. Columns containing SSBG cost per adult and SSBG cost per child are omitted. SSBG cost per recipient can be calculated using the number of recipients and amount of expenditures reported.

4. Items 30 a,b,c and d (transfers in, transfers out, carry forward and carry over) are omitted on the revised form. Information about how much of allocated funds were spent will be reported on the Form 269a (OMB No. 0348-0036). Information about funds transferred into SSBG is in a separate expenditures column.

5. On the revised form, expenditures of SSBG funds is divided into two subcolumns—SSBG Allocation and Funds Transferred into SSBG. This provides more information about how transferred funds was used than the previous form which had only a place for Transfers In. States are instructed to note at the bottom from which block grant these funds were transferred.

6. A column is added for Expenditures of All other Federal, State and Local Funds. The addition of this column, with accompanying instructions, will make more clear that States are to report all sources of funds for services supported by SSBG.

7. The column for Adults is divided into two age groups. Adults are counted as either “Adults Age 59 or younger” or “Adults Age 60 or older”. A column for total adults is also included, which can be used by States who do not know the age breakout of the adult recipients. This more detailed reporting of Adults will allow considerably greater detailed analyses of the use of SSBG for specific services.

8. The order of two services, special services for youth at risk and special services for the disabled, has been changed from the previous version of the post-expenditure report form so that services are in the correct alphabetical order.

The Social Services Block Grant program (SSBG) provides funds to assist States in delivering social services directed towards the need of children and adults in the State. Funds are allocated to the States in proportion to their populations. States, including the District of Columbia, Guam, Puerto Rico, Virgin Islands, Northern Mariana Islands, and American Samoa have substantial discretion in their use of funds and may determine what services will be provided, who will be eligible, and how funds are distributed among the various services. State or local SSBG agencies (i.e., county, city, regional offices) may provide the services or may purchase them from qualified agencies, organizations or individuals. States report as recipients of SSBG-funded services any individuals who receive a service funded at least partially by SSBG.

States are required to report their annual SSBG expenditures on a standard post-expenditure report, which includes a yearly total of adults and children served and annual expenditures in each of 29 service categories. Reporting requirements for SSBG were originally described in the Federal Register, Volume 58, Number 218, on Monday November 15, 1993. The annual report is to be submitted within six months of the end of the period covered by the report, and must address (1) the number of individuals (as well as number of children and number of adults) who receive services paid for in whole or in part with federal funds under the Social Services Block Grant; (2) the amount of Social Services Block Grant funds spent in providing each service; (3) the total amount of federal, state and local funds spent in providing each service, including Social Services Block Grant funds; and (4) the method(s) by which each service is provided, showing separately the services provided by public agencies, private agencies.

Information collected on the post-expenditure report is analyzed and described in an annual report on SSBG expenditures and recipients produced by the Office of Community Services. The information contained in this report is used to establish how SSBG funding is used for the provision of services in each State to each of many specific populations of needy individuals.

Respondents: This report is completed once annually by a representative of the agency that administers the Social Services Block Grant at the State level in each State, the District of Columbia and the Territories.

Annual Burden Estimates
Instrument | Number of respondents | Number of responses per respondent | Average burden hours per response | Total burden hours
Post-Expenditure Report | 56 | 1 | 110 | 6160
Estimated Total Annual Burden Hours: |  |  |  | 6160

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 24, 2001.
Bob Sargis,
Reports Clearance Officer.

[FR Doc. 01-2463 Filed 1-26-01; 8:45 am]

BILLING CODE 4184-01-M